DEPARTMENT OF ENERGY

Federal Energy Regulatory Commission

Combined Notice of Filings #1

Take notice that the Commission received the following electric corporate filings:

Docket Numbers: EC17-48-000.

Applicants: Nine Mile Point Nuclear Station, LLC.

Description: Application of Nine Mile Point Nuclear Station, LLC for Authorization under Section 203 of the Federal Power Act and Request for Expedited Action.

Filed Date: 12/16/16.

Accession Number: 20161216-5196.

Comments Due: 5 p.m. ET 1/6/17.

Docket Numbers: EC17-49-000.

Applicants: GridLiance West Transco LLC.

Description: Application for Authorization to Acquire Transmission Facilities Pursuant to Section 203 of GridLiance West Transco LLC.

Filed Date: 12/16/16.

Accession Number: 20161219-5103.

Comments Due: 5 p.m. ET 1/6/17.

Take notice that the Commission received the following electric rate filings:

Docket Numbers: ER16-2411-002.

Applicants: Luning Energy Holdings LLC.

Description: Triennial Report for Northwest region of Luning Energy Holdings LLC.

Filed Date: 12/16/16.

Accession Number: 20161216-5186.

Comments Due: 5 p.m. ET 2/14/17.

Docket Numbers: ER16-2412-002.

Applicants: Luning Energy LLC.

Description: Triennial Report for Northwest region of Luning Energy LLC.

Filed Date: 12/16/16.

Accession Number: 20161216-5185.

Comments Due: 5 p.m. ET 2/14/17.

Docket Numbers: ER16-2514-001.

Applicants: Public Service Company of Colorado.

Description: Compliance filing: OATT Schedules 4 & 9 Compliance to be effective 1/1/2017.

Filed Date: 12/15/16.

Accession Number: 20161215-5098.

Comments Due: 5 p.m. ET 1/5/17.

Docket Numbers: ER17-173-000.

Applicants: Wabash Valley Power Association, Inc.

Description: Supplement to October 24, 2016 Request for Revised and Additional Depreciation Rates of Wabash Valley Power Association, Inc.

Filed Date: 12/16/16.

Accession Number: 20161216-5188.

Comments Due: 5 p.m. ET 12/23/16.

Docket Numbers: ER17-468-001.

Applicants: Ohio Valley Electric Corporation.

Description: Compliance filing: Errata to Amendment J, K and P to be effective 10/14/2016.

Filed Date: 12/16/16.

Accession Number: 20161216-5182.

Comments Due: 5 p.m. ET 1/6/17.

Docket Numbers: ER17-567-000.

Applicants: Duke Energy Progress, LLC.

Description: § 205(d) Rate Filing: Southampton Solar Affected System Operating Agreement to be effective 1/19/2017.

Filed Date: 12/16/16.

Accession Number: 20161216-5145.

Comments Due: 5 p.m. ET 1/6/17.

Docket Numbers: ER17-568-000.

Applicants: Midcontinent Independent System Operator, Inc.

Description: § 205(d) Rate Filing: 2016-12-16_Attachment X-Quarterly Operating Limits to be effective 2/15/2017.

Filed Date: 12/16/16.

Accession Number: 20161216-5155.

Comments Due: 5 p.m. ET 1/6/17.

Docket Numbers: ER17-569-000.

Applicants: National Choice Energy LLC.

Description: Baseline eTariff Filing: Baseline New to be effective 12/30/2016.

Filed Date: 12/16/16.

Accession Number: 20161216-5158.

Comments Due: 5 p.m. ET 1/6/17.

Docket Numbers: ER17-570-000.

Applicants: Pacific Gas and Electric Company.

Description: Tariff Cancellation: Notices of Termination of Tranquillity 8 and Mustang 2 E&P Agreements to be effective 11/2/2016.

Filed Date: 12/19/16.

Accession Number: 20161219-5000.

Comments Due: 5 p.m. ET 1/9/17.

Docket Numbers: ER17-571-000.

Applicants: Entergy Mississippi, Inc.

Description: Notice of Termination of Lease Agreement of Entergy Mississippi, Inc.

Filed Date: 12/15/16.

Accession Number: 20161215-5314.

Comments Due: 5 p.m. ET 1/5/17.

Docket Numbers: ER17-572-000.

Applicants: PJM Interconnection, L.L.C.

Description: Tariff Cancellation: Notice of Cancellation of WMPA SA No. 2939, Queue No. W1-114 to be effective 12/19/2016.

Filed Date: 12/19/16.

Accession Number: 20161219-5093.

Comments Due: 5 p.m. ET 1/9/17.

Docket Numbers: ER17-573-000.

Applicants: PJM Interconnection, L.L.C.

Description: Tariff Cancellation: Notice of Cancellation of WMPA SA No. 2938, Queue No. W1-115 to be effective 12/19/2016.

Filed Date: 12/19/16.

Accession Number: 20161219-5116.

Comments Due: 5 p.m. ET 1/9/17.

Docket Numbers: ER17-574-000.

Applicants: Duke Energy Progress, LLC, Duke Energy Carolinas, LLC.

Description: Compliance filing: Compliance Filing EL16-29 and EL16-30 to be effective 1/1/2016.

Filed Date: 12/19/16.

Accession Number: 20161219-5127.

Comments Due: 5 p.m. ET 1/9/17.

Docket Numbers: ER17-575-000.

Applicants: Tucson Electric Power Company.

Description: § 205(d) Rate Filing: Cancellation of Service Schedule B under Rate Schedule No. 125 to be effective 11/21/2016.

Filed Date: 12/19/16.

Accession Number: 20161219-5160.

Comments Due: 5 p.m. ET 1/9/17.

Take notice that the Commission received the following electric securities filings:

Docket Numbers: ES17-8-000.

Applicants: MidAmerican Energy Company.

Description: Application under Section 204 of the Federal Power Act for Authorization to issue and sell debt securities of MidAmerican Energy Company.

Filed Date: 12/16/16.

Accession Number: 20161216-5199.

Comments Due: 5 p.m. ET 1/6/17.

Docket Numbers: ES17-9-000.

Applicants: GridLiance West Transco LLC.

Description: Application Under Section 204 of the Federal Power Act for Authorization to Issue Securities of GridLiance West Transco LLC.

Filed Date: 12/16/16.

Accession Number: 20161219-5110.

Comments Due: 5 p.m. ET 1/6/17.

Take notice that the Commission received the following public utility holding company filings:

Docket Numbers: PH17-5-000.

Applicants: Enbridge Inc.

Description: Enbridge Inc. submits FERC 65-A Waiver Notification and Notice of Material Change in Facts.

Filed Date: 12/16/16.

Accession Number: 20161216-5191.

Comments Due: 5 p.m. ET 1/6/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 19, 2016.
Nathaniel J. Davis, Sr.,
Deputy Secretary.

[FR Doc. 2016-30974 Filed 12-22-16; 8:45 am]

BILLING CODE 6717-01-P